DEPARTMENT OF JUSTICE

Drug Enforcement Administration

Cordell Clark, M.D., Revocation of Registration

On July 26, 2002, the then-Deputy Administrator of the Drug Enforcement Administration (DEA), issued an Order to Show Cause and Notice of Immediate Suspension of Registration to Cordell Clark, M.D. (Dr. Clark). Dr. Clark was notified of an opportunity to show cause as to why DEA should not revoke his DEA Certificate of Registration, AC1074892, pursuant to 21 U.S.C. 824(a)(1), (3) and (4), and deny any pending applications for renewal or modification as a practitioner pursuant to 21 U.S.C. 823(f). The Order to Show Cause—Notice of Immediate Suspension further notified Dr. Clark that his DEA registration was immediately suspended as an imminent danger to the public health and safety pursuant to 21 U.S.C. 824(d). Dr. Clark was also notified that should no request for a hearing be filed within 30 days, his hearing right would be deemed waived.

On July 31, 2002, three DEA Diversion Investigators attempted to serve the Order to Show Cause-Notice of Suspension upon Dr. Clark at his registered address in Dallas, Texas. The investigators also attempted delivery at a second business address in Dallas. Dr. Clark was at neither location, and both appeared to have been vacated. On August 1, 2002, two DEA Diversion Investigators along with a DEA Special Agent hand carried the Order to Show Cause—Notice of Immediate Suspension to Dr. Clark's residence in Cedar Hill, Texas. Dr. Clark again was not present, however, a person identifying himself as Christopher Clark (later determined to be Dr. Clark's twenty-year old son) was present at the location. After displaying credentials and identifying themselves as representatives of DEA, the investigators inquired as to the whereabouts of Dr. Clark. Christopher Clark informed DEA personnel that his father was “at work” but would not divulge Dr. Clark's location or telephonically contact him so that DEA personnel could speak with him. As a result, DEA personnel left the Order to Show Cause—Notice of Suspension (along with a business card from a Diversion Investigator) with Christopher Clark with instructions that he deliver the same to Dr. Clark. DEA has not received a request for hearing or any other reply from Dr. Clark or anyone purporting to represent him in this matter.

Therefore, the Acting Administrator, finding that (1) 30 days have passed since the receipt of the Order to Show Cause, and (2) no request for a hearing having been received, concludes that Dr. Clark is deemed to have waived his hearing right. After considering material from the investigative file in this matter, the Acting Administrator now enters his final order without a hearing pursuant to 21 CFR 1301.43 (d) and (e) and 1301.46.

The Acting Administrator finds that Dr. Clark currently possesses DEA Certificate of Registration AC1974892. While Dr. Clark's DEA registration reflects an expiration date of August 31, 2001, that registration remains valid based upon his timely submission of a DEA renewal application dated August 16, 2001.

The Acting Administrator finds that on September 25, 2000, the Texas State Board of Medical Examiners (Board) issued an order suspending Dr. Clark's license to practice medicine. The Board's order was based in part upon Dr. Clark's failure to evaluate a patent prior to ordering physical therapy and his failure to comply with terms and conditions of a prior Agreed Order that Dr. Clark had entered into with the Board. On September 7, 2001, the Board issued an Order denying Dr. Clark's petition to terminate the suspension of his medical license.

On September 26, 2001, the Texas Department of Public Safety (DPS) notified Dr. Clark of the cancellation of his state Controlled Substances Registration Certificate number Y0042101. The action by DPS was initiated based upon Dr. Clark's failure to meet a necessary precondition for a Texas controlled substance registration—a medical license with the Board that was current and in good standing.

The above referenced Order to Show Cause—Notice of Immediate Suspension further alleged, and a review of information in the investigative file suggests, that Dr. Clark materially falsified his August 16, 2001 application for renewal of his DEA registration by failing to disclose information regarding the suspension of his Texas medical license. The investigative file also reveals that Dr. Clark continued issuing prescriptions for controlled substances despite the lack of state authorization to practice medicine or handle controlled substances, and being advised by DEA personnel on August 30, 2001, to cease writing such prescriptions.

There is no evidence in the record that the Board has lifted the suspension of Dr. Clark's medical license or that his Texas State Controlled Substances Certificate has been reinstated. Therefore, the Acting Administrator finds that Dr. Clark is not currently authorized to handle controlled substances in that state.

DEA does not have statutory authority under the Controlled Substances Act to issue or maintain a registration if the applicant or registrant is without state authority to handle controlled substances in the state in which he conducts business. See 21 U.S.C. 802(21), 823(f) and 824(a)(3). This prerequisite has been consistently upheld. See Joseph Thomas Allevi, M.D., 67 FR 35581 (2002); Dominick A. Ricci, M.D., 58 FR 51104 (1993); Bobby Watts, M.D., 53 FR 11919 (1988).

Here, it is clear that Dr. Clark is not licensed to handle controlled substances in Texas, where he is registered with DEA. Therefore, he is not entitled to maintain that registration. Because Dr. Clark is not entitled to a DEA registration in Texas due to his lack of state authorization to handle controlled substances, the Acting Administrator concludes that it is unnecessary to address whether Dr. Clark's registration should be revoked based upon the other grounds asserted in the Order to Show Cause—Notice of Immediate Suspension. See Fereida Walker-Graham, M.D., 68 FR 24761 (2003); Nathaniel-Aikens-Afful, M.D., 62 FR 16871 (1997); San F. Moore, D.V.M., 58 FR 14428 (1993).

Accordingly, the Acting Administrator of the Drug Enforcement Administration, pursuant to the authority vested in him by 21 U.S.C. 823 and 824 and 28 CFR 0.100(b) and 0.104, hereby orders that DEA Certificate of Registration, AC1074892, issued to Cordell Clark, M.D., be, and it hereby is, revoked. The Acting Administrator further orders that any pending application for renewal or modification of such registration be, and they hereby are, denied. This order is effective September 15, 2003.

Dated: July 28, 2003.
William B. Simpkins,
Acting Administrator.

[FR Doc. 03-20805 Filed 8-14-03; 8:45 am]

BILLING CODE 4410-09-M